DEPARTMENT OF TRANSPORTATION

Transportation Security Administration

49 CFR Part 1511

[Docket No. TSA-2002-11334]

RIN 2110-AA02

Aviation Security Infrastructure Fees

AGENCY: Transportation Security Administration (TSA), DOT.

ACTION: Temporary Waiver of Audit Submission Requirements.

SUMMARY: TSA is issuing this document to inform all air carriers and foreign air carriers that it will not seek enforcement of the independent audit submission deadline set forth in the Aviation Security Infrastructure Fees regulation, under certain conditions.

FOR FURTHER INFORMATION CONTACT: For guidance on technical matters: Randall Fiertz, Acting Director of Revenue, (202) 385-1209. For guidance on legal or other matters: Steven Cohen, Office of Chief Counsel, (202) 493-1216.

SUPPLEMENTARY INFORMATION: In order to offset the costs of providing civil aviation security services, TSA published in the Federal Register an interim final rule (67 FR 7926; February 20, 2002), codified at 49 CFR part 1511, that imposed the Aviation Security Infrastructure Fee on air carriers and foreign air carriers engaged in air transportation, foreign air transportation, and intrastate air transportation.

Sections 1511.5 and 1511.7 require these carriers to provide TSA with certain information on their costs related to screening passengers and property incurred in 2000. This information was due to be received by TSA by May 18, 2002. Section 1511.9 requires each such carrier to also provide for and submit to TSA an independent audit of these costs, which were due to be received by TSA by July 1, 2002.

As reflected in the public docket on the Aviation Security Infrastructure Fee regulation, TSA-2002-11334, TSA denied several requests that it alter the audit requirement and extend the July 1, 2002 audit deadline.

However, on two occasions TSA announced that it would not seek enforcement against carriers that meet certain criteria by certain dates. The first announcement appeared in TSA's “Guidance for the Aviation Security Infrastructure Fee,” as published in the Federal Register on May 1, 2002 (docket item no. 20). The second announcement was in TSA's July 24, 2002, letter to the Air Transport Association (docket item no. 35). The criteria are that the carriers must make timely and proper fee payments, must submit any necessary revisions to their Appendix A submission(s), and must remit all adjusted fee payments retroactive to February 18, 2002.

By this document, TSA extends the period of time for which it will not seek to enforce the July 1, 2002, deadline for all carriers whose independent audits and adjusted fee payments are received by October 31, 2002. The previously stated conditions still apply. TSA is not waiving enforcement of any other requirements set forth in 49 U.S.C. 44940 or 49 CFR part 1511.

Issued in Washington, DC, on August 29, 2002.
J. M. Loy,
Acting Under Secretary of Transportation for Security.

[FR Doc. 02-22629 Filed 8-30-02; 3:51 pm]

BILLING CODE 4910-62-P